DEPARTMENT OF COMMERCE

International Trade Administration

[A-570-878]

Saccharin From the People's Republic of China: Notice of Partial Rescission of Antidumping Duty Administrative Review

AGENCY: Import Administration, International Trade Administration, Department of Commerce

DATES: Effective Date: November 3, 2009.

FOR FURTHER INFORMATION CONTACT: Brandon Petelin, AD/CVD Operations, Office 8, Import Administration, International Trade Administration, U.S. Department of Commerce, 14th Street and Constitution Avenue, NW., Washington, DC 20230; telephone: (202) 482-8173.

Background

On July 1, 2009, the Department of Commerce (“the Department”) published a notice of opportunity to request an administrative review of the antidumping duty order on Saccharin from the People's Republic of China (“PRC”). See Antidumping or Countervailing Duty Order, Finding, or Suspended Investigation: Opportunity to Request Administrative Review, 74 FR 31406 (July 1, 2009). On July 31, 2009, Shanghai Fortune Chemical Co., Ltd. (“Shanghai Fortune”), a PRC producer and exporter of saccharin, requested that the Department conduct an administrative review of Shanghai Fortune's own exports. The Department then published in the Federal Register the initiation notice for the antidumping duty administrative review of Saccharin from the PRC for the period July 1, 2008, through June 30, 2009. See Initiation of Antidumping and Countervailing Duty Administrative Reviews, Request for Revocation in Part, 74 FR 42873 (August 25, 2009).

Partial Rescission of Review

Pursuant to 19 CFR 351.213(d)(1), the Secretary will rescind an administrative review, in whole or in part, if the party that requested the review withdraws the request within 90 days of the date of publication of the notice of initiation of the requested review. On August 28, 2009, Shanghai Fortune timely withdrew its request for an administrative review of its own exports (i.e., within 90 days of the publication of the notice of initiation of this review). Because no other party requested a review of Shanghai Fortune's exports, the Department hereby rescinds the administrative review of saccharin with respect to Shanghai Fortune, in accordance with 19 CFR 351.213(d)(1). This administrative review will continue with respect to Kaifeng Xinhua Fine Chemical Factory.

Assessment Rates

The Department will instruct U.S. Customs and Border Protection (“CBP”) to assess antidumping duties on all appropriate entries. For Shanghai Fortune, which had previously established eligibility for a separate rate, antidumping duties shall be assessed at rates equal to the cash deposit of estimated antidumping duties required at the time of entry, or withdrawal from warehouse, for consumption, in accordance with 19 CFR 351.212(c)(2). The Department intends to issue appropriate assessment instructions directly to CBP 15 days after publication of this notice. For Kaifeng Xinhua Fine Chemical Factory and for those companies which do not have a separate rate at this time (and thus remain part of the PRC-wide entity), the Department will issue assessment instructions upon the completion of this administrative review.

Notification to Importers

This notice serves as a final reminder to importers of their responsibility under section 351.402(f) of the Department's regulations to file a certificate regarding the reimbursement of antidumping duties prior to liquidation of the relevant entries during this review period. Failure to comply with this requirement could result in the Secretary's assumption that reimbursement of antidumping duties occurred and subsequent assessment of double antidumping duties.

This notice is issued and published in accordance with section 777(i) of the Tariff Act of 1930, as amended, and 19 CFR 351.213(d)(4).

Dated: October 26, 2009.
John M. Andersen,
Acting Deputy Assistant Secretary for Antidumping and Countervailing Duty Operations.

[FR Doc. E9-26324 Filed 11-2-09; 8:45 am]

BILLING CODE 3510-DS-P